DEPARTMENT OF ENERGY

Federal Energy Regulatory Commission

[Docket Nos. EY05-14-001; RM01-10-000]

Standards of Conduct for Transmission Providers; Notice Waiving Record Keeping Requirements

September 7, 2005.

Due to the emergency conditions in the Gulf Coast area of the United States created by Hurricane Katrina, on August 31, 2005, the Commission issued a Notice Granting Extension Of Time To Comply With Posting And Other Requirements. That Notice, among other things, allowed affected transmission providers to delay, until September 30, 2005, compliance with the requirement of section 358.4(a)(2) of the Commission's regulations, 18 CFR 358.4(a)(2)(2005), to report to the Commission and post on the OASIS or Internet website, as applicable, each emergency that resulted in any deviation from the standards of conduct.

Due to the extreme nature of the emergency, the Commission will also waive, until September 16, 2005, the requirement to record and retain a record of each deviation of the standards of conduct. The Commission will consider extending the waiver if it continues to be needed after that date.

Magalie R. Salas,
Secretary.

[FR Doc. E5-4989 Filed 9-12-05; 8:45 am]

BILLING CODE 6717-01-P